DEPARTMENT OF COMMERCE

International Trade Administration

[A-588-702, A-580-813, A-583-816]

Certain Stainless Steel Butt-Weld Pipe Fittings From Japan, South Korea and Taiwan; Final Results of Sunset Reviews and Revocation of Antidumping Duty Orders

AGENCY: Import Administration, International Trade Administration, Department of Commerce.

SUMMARY: On September 1, 2010, the Department of Commerce (the Department) initiated sunset reviews of the antidumping duty orders on certain stainless steel butt-weld pipe fittings from Japan, South Korea and Taiwan. See Initiation of Five-Year (“Sunset”) Review, 75 FR 53664 (September 1, 2010) (Initiation Notice). Because no interested domestic party responded to the sunset review notice of initiation by the applicable deadline, the Department is revoking the antidumping duty orders on certain stainless steel butt-weld pipe fittings from Japan, South Korea and Taiwan.

DATES: Effective Date: October 20, 2010.

FOR FURTHER INFORMATION CONTACT: Dana Mermelstein, AD/CVD Office 6, Import Administration, International Trade Administration, U.S. Department of Commerce, 14th Street and Constitution Avenue, NW., Washington, DC 20230; telephone: (202) 482-1391.

SUPPLEMENTARY INFORMATION:

Scope of the Orders

Japan

The products covered by this order include certain stainless steel butt-weld pipe fittings. These fittings are used in piping systems for chemical plants, pharmaceutical plants, food processing facilities, waste-treatment facilities, semiconductor equipment applications, nuclear power plants and other areas. This merchandise is classifiable under the Harmonized Tariff Schedule of the United States (HTSUS) subheading 7307.23.00. Although the HTSUS subheading is provided for convenience and for customs purposes, the written product description remains dispositive as to the scope of the order.

South Korea

The products subject to this order are certain welded stainless steel butt-weld pipe fittings, whether finished or unfinished, under 14 inches in inside diameter. The pipe fittings are used to connect pipe sections in piping systems where conditions require welded connections. The subject merchandise can be used where one or more of the following conditions is a factor in designing the piping system: (1) Corrosion of the piping system will occur if material other than stainless steel is used; (2) contamination of the material in the system by the system itself must be prevented; (3) high temperatures are present; (4) extreme low temperatures are present; (5) high pressures are contained within the system.

Stainless steel butt-weld pipe fittings come in a variety of shapes, and the following five are the most basic: “elbows,” “tees,” “reducers,” “stub ends,” and “caps.” The edges of finished fittings are beveled. Threaded, grooved, and bolted fittings are excluded from the order. The pipe fittings subject to this order are classifiable under the HTSUS subheading 7307.23.00. Although the HTSUS subheading is provided for convenience and customs purposes, our written description of the scope of the order is dispositive.

Taiwan

The products subject to the order are certain stainless steel butt-weld pipe fittings, whether finished or unfinished, under 14 inches in inside diameter. The pipe fittings are used to connect pipe sections in piping systems where conditions require welded connections. The subject merchandise is used where one or more of the following conditions is a factor in designing the piping system: (1) Corrosion of the piping system will occur if material other than stainless steel is used; (2) contamination of the material in the system by the system itself must be prevented; (3) high temperatures are present; (4) extreme low temperatures are present; and (5) high pressures are contained within the system.

Stainless steel butt-weld pipe fittings come in a variety of shapes, with the following five shapes the most basic: “elbows,” “tees,” “reducers,” “stub ends,” and “caps.” The edges of finished fittings are beveled. Threaded, grooved, and bolted fittings are excluded from the order. The pipe fittings subject to the order are currently classifiable under subheading 7307.23.00 of the HTSUS. Although the HTSUS subheading is provided for convenience and customs purposes, our written description of the scope of the order is dispositive.

Stainless steel butt-weld pipe fittings manufactured to the American Society of Testing and Materials specification A774 are included in the scope of this order.

Background

The Department published its antidumping duty order on certain stainless steel butt-weld pipe fittings from Japan on March 25, 1988. See Antidumping Duty Order of Sales at Less Than Fair Value; Stainless Steel Butt-Weld Pipe and Tube Fittings From Japan, 53 FR 9787 (March 25, 1988). The Department published its antidumping duty order on certain stainless steel butt-weld pipe fittings from South Korea on February 23, 1993. See Antidumping Duty Order: Certain Welded Stainless Steel Butt-Weld Pipe Fittings from Korea, 58 FR 11029 (February 23, 1993). The Department published its antidumping duty order on certain stainless steel butt-weld pipe fittings from Taiwan on June 16, 1993. See Amended Final Determination and Antidumping Duty Order: Certain Welded Stainless Steel Butt-Weld Pipe Fittings From Taiwan, 58 FR 33250 (June 16, 1993).

The Department determined that a continuation of the orders was warranted in two earlier rounds of sunset reviews. See Certain Stainless Steel Butt-Weld Pipe Fittings from Japan, South Korea, and Taiwan; Continuation of Antidumping Duty Orders, 70 FR 61119 (October 20, 2005); Final Results of Expedited Sunset Reviews: Certain Stainless Steel Butt-Weld Pipe and Tube Fittings From Japan, South Korea, and Taiwan, 65 FR 5604 (February 4, 2000).

On September 1, 2010, the Department initiated the current sunset reviews pursuant to section 751(c) of the Tariff Act of 1930, as amended (the Act), and 19 CFR part 351, in general. See Initiation Notice. We received no response from the domestic industry by the deadline date. See 19 CFR 351.218(d)(1)(i). As a result, the Department has determined that no domestic party intends to participate in the sunset reviews. See 19 CFR 351.218(d)(1)(iii)(A). On September 21, 2010, the Department notified the International Trade Commission in writing that we intended to issue a revocation of the antidumping duty orders. See 19 CFR 351.218(d)(1)(iii)(B)(2).

Revocation

Pursuant to section 751(c)(3)(A) of the Act and 19 CFR 351.218(d)(1)(iii)(B)(3), if no domestic interested parties respond to a notice of initiation, the Department shall, within 90 days after the initiation of the review, revoke the order. Because no domestic interested party filed a notice of intent to participate in any of the reviews, the Department finds that no domestic interested party is participating in the reviews. Thus, we are revoking the orders on certain stainless steel butt-weld pipe fittings from Japan, South Korea and Taiwan.

Effective Date of Revocation

Pursuant to sections 751(c)(3)(A) and 751(c)(6)(A)(iii) of the Act, and 19 CFR 351.222(i)(2)(i), the Department will instruct U.S. Customs and Border Protection to terminate the suspension of liquidation of the merchandise subject to these orders entered, or withdrawn from warehouse, on or after October 20, 2010, the fifth anniversary of the date of publication of the last continuation notice. Entries of subject merchandise prior to the effective date of revocation will continue to be subject to suspension of liquidation and antidumping and deposit requirements. The Department will complete any pending administrative reviews of these orders and will conduct administrative reviews of subject merchandise entered prior to the effective date of revocation in response to appropriately-filed requests for review.

This five-year (“sunset”) review and this notice are in accordance with section 751(c) and 777(i)(1) of the Act.

Dated: November 1, 2010.
Paul Piquado,
Acting Deputy Assistant Secretary for Import Administration.

[FR Doc. 2010-28025 Filed 11-4-10; 8:45 am]

BILLING CODE 3510-DS-P